DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, Subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on May 12, 2016.
Donald Burger,
Chief, Special Permits and Approvals Branch.

S.P. No. | Applicant | Regulation(s) | Nature of special permit thereof
MODIFICATION SPECIAL PERMIT GRANTED
15628-M | Chemours Company FC, LLC, Wilmington, DE | 49 CFR 179.100-12(c) | To modify the special permit to authorize an additional hazardous material.
16510-M | Apple, Inc., Cupertino, CA | 49 CFR Subparts C through H of Part 172, 173.185(f) | To modify the special permit originally issued on an emergency basis to authorize an additional two years.
13213-M | Washington State Ferries, Seattle, WA | 49 CFR 172.101(10a) | To modify the special permit to increase the quantity of Petroleum gases, liquefied or Liquefied Petroleum Gas from 100 lbs to 143 lbs.
16566-M | Sunset Helicopters, Inc., Aurora, OR | 49 CFR 172.200, 172.300, 172.400, 173.27, 173.220(b)(1), 173.220(g), 175.30, 175.33, 175.75 | To modify the special permit originally issued on an emergency basis to authorize an additional two years.
16555-M | Advance Research Chemicals, Inc., Catoosa, OK | 49 CFR 173.227(b)(2)(iii) | To modify the special permit originally issued on an emergency basis to authorize an additional two years and identify Advance Research Chemicals, Inc. as an offeror of hazardous materials.
NEW SPECIAL PERMIT GRANTED
16584-N | Visuray LLC, Houston, TX | 49 CFR 171-180 | To authorize the transportation in commerce of sulfur hexafluoride in a non-DOT specification cylinder, which is part of an oil well downhole logging tool. (modes 1, 2, 3, 4, 5)
16591-N | Department of Defense, Scott AFB, IL | 49 CFR 171.23(a), 173.302(a), ICAO TI Part 6, Chapters, Paragraph 5.1.1.2, IMDG Code Part 6, Chapter 6.2 Section 6.2.1.1.2 | To authorize the transportation in commerce of compressed argon in non-DOT specification cylinders. (modes 1, 3, 4)
16587-N | Mobis Parts America, LLC, Fountain Valley, CA | 49 CFR 172.102(c)(2), Special Provision A54, ICAO T1 Special Provision A99 | To authorize the transportation in commerce of lithium-ion polymer battery assemblies exceeding a net weight of 35 kg when transported aboard cargo aircraft. (mode 4)
16601-N | SAFC Hitech, Inc., Haverhill, MA | 49 CFR 173.181(b), IMDG Code Packing Instruction P400, paragraph (2) | To authorize the manufacture, mark, sale and use of specially-designed combination packagings for the transportation in commerce of certain pyrophoric hazardous materials. (modes 1, 3)
16602-N | Hydrite Chemical Co., Brookfield, WI | 49 CFR 173.158(b), 173.158(e), 173.158(1) | To authorize the transportation in commerce of nitric acid with concentrations up to 50% in UN 3HI jerricans and UN IHI plastic drums. (mode 1)
20244-N | Kalitta Air, LLC, Ypsilanti, MI | 49 CFR 172.101 Table Column (9B), 172.204(c)(3), 173.27(b)(2), (3), and 175.30(a)(1) | To authorize the transportation in commerce of certain explosives that are forbidden for transportation by cargo only aircraft. (mode 4)
20233-N | National Air Cargo Group, Inc., Orlando, FL | 49 CFR 172.101 Table Column (9B), 172.204(c)(3), 173.27(b)(2), (3), and 175.30(a)(1), 49 CFR 173.158(b), 173.158(e), 173.158(1) | To authorize the transportation in commerce of certain explosives that are forbidden for transportation by cargo only aircraft (mode 4). To authorize the transportation in commerce of nitric acid with concentrations up to 50% in UN 3141 jerricans and UN 1111 plastic drums. (mode 1)
DENIED
15507-M | Request by Yiwu Jinyu Machinery Factory Jiangwan Town, Yiwu City, April 08, 2016. To modify the special permit to authorize an additional non-refillable, non-DOT specification inner container similar to a DOT specification 2Q.

[FR Doc. 2016-11987 Filed 5-26-16; 8:45 am]

BILLING CODE M